DEPARTMENT OF ENERGY

Federal Energy Regulatory Commission

[Project No. 10855-118]

Upper Peninsula Power Company; Notice of Intent To Prepare an Environmental Document and Soliciting Comments, Motions To Intervene, and Protests

February 12, 2008.

Take notice that the following hydroelectric application has been filed with the Commission and is available for public inspection:

a. Application Type: Intent to rebuild reservoir.

b. Project No: 10855-118.

c. Date Filed: January 23, 2008.

d. Applicant: Upper Peninsula Power Company.

e. Name of Project: Dead River Hydroelectric Project.

f. Location: The project is located on the Dead River in Marquette County, Michigan.

g. Filed Pursuant to: Federal Power Act, 16 U.S.C. 791a-825r.

h. Applicant Contact: Shawn Puzen, Integrys Business Support LLC, 700 N. Adams Street, P.O. Box 19001, Green Bay, WI 54307-9001, Tel: (920) 433-1094.

i. FERC Contact: Peter Yarrington, Telephone (202) 502-6129, and e-mail: peter.yarrington@ferc.gov.

j. Deadline for filing comments, motions to intervene, and protest: March 13, 2008.

All documents (original and eight copies) should be filed with: Secretary, Federal Energy Regulatory Commission, 888 First Street, NE., Washington, DC 20426.

The Commission's Rules of Practice and Procedure require all interveners filing documents with the Commission to serve a copy of that document on each person whose name appears on the official service list for the project. Further, if an intervener files comments or documents with the Commission relating to the merits of an issue that may affect the responsibilities of a particular resource agency, they must also serve a copy of the document on that resource agency. A copy of any motion to intervene must also be served upon each representative of the Applicant specified in the particular application.

k. Description of Request: Upper Peninsula Power Company has filed an Environmental Report addressing its intent to rebuild the Silver Lake Reservoir, part of the Dead River Hydroelectric Project (FERC No. 10855). The project consists of three separate developments: Silver Lake, Dead River (Hoist), and McClure. Silver Lake serves as a storage reservoir for downstream power generation. In May 2003, an emergency fuse plug on the Silver Lake Reservoir activated, resulting in the release of a large quantity of water, rock and sediment downstream. A river recovery project has been implemented, however, the elevation of the reservoir is significantly reduced. The licensee is proposing to rebuild Silver Lake Reservoir, which requires constructing a new dam #2 to replace the prior emergency fuse plug, raising the height of the main dam and a series of smaller dikes and dams that contain the reservoir, adding a new spillway, and raising the level of the current service spillway to the height of the main dam, ending its function as a spillway.

The Commission intends to prepare an environmental document under the National Environmental Policy Act (NEPA) for the Silver Lake Reservoir rebuilding project. The NEPA document will be used by the Commission to identify environmental impacts and to identify measures that would help mitigate the impacts caused by rebuild activities.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call 1-866-208-3676 or e-mail FERCOnlineSupport@ferc.gov, for TTY, call (202) 502-8659.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Any filings must bear in all capital letters the title “COMMENTS”, “PROTEST”, or “MOTION TO INTERVENE”, as applicable, and the Project Number (P-10855-118) of the particular application to which the filing refers.

p. Agency Comments: Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Kimberly D. Bose,
Secretary.

[FR Doc. E8-3046 Filed 2-19-08; 8:45 am]

BILLING CODE 6717-01-P